DEPARTMENT OF TRANSPORTATION

Federal Aviation Administration

Notice of Intent To Rule on Application 03-06-C-00EYW, Impose and Use the Revenue From a Passenger Facility Charge (PFC) at Key West International Airport, Key West, FL

AGENCY: Federal Aviation Administration (FAA), DOT.

ACTION: Notice of intent to rule on application.

SUMMARY: The FAA proposes to rule and invites public comment on the application to impose and use the revenue from a PFC at Key West International Airport under the provisions of the 49 U.S.C. 40117 and part 158 of the Federal Aviation Regulations (14 CFR Part 158).

DATES: Comments must be received on or before December 2, 2002.

ADDRESSES: Comments on this application may be mailed or delivered in triplicate to the FAA at the following address: Orlando Airports District Office, Suite 400, 5950 Hazeltine National Drive, Orlando, Florida 32822.

In addition, one copy of any comments submitted to the FAA must be mailed or delivered to Peter Horton, Airport Manager for the Monroe County Board of County Commissioners, Key West International Airport, 3491 South Roosevelt Boulevard, Key West Florida 33040.

Air carriers and foreign air carriers may submit copies of written comments previously provided to the Monroe County Board of County Commissioners under section 158.23 of part 158.

FOR FURTHER INFORMATION CONTACT: Susan Moore, Program Manager, Orlando Airports District Office, Suite 400, 5950 Hazeltine National Drive, Orlando, Florida 32822, (407) 812-6331, extension 20. The application may be reviewed in person at this same location.

SUPPLEMENTARY INFORMATION: The FAA proposes to rule and invites public comment on the application to impose and use the revenue from a PFC at Key West International Airport under the provisions of the 49 U.S.C. 40117 and part 158 of the Federal Aviation Regulations (14 CFR part 158).

On (K—insert date of SC Letter), the FAA determined that the application to impose and use the revenue from a PFC submitted by Monroe County Board of County Commissioners was complete was substantially complete within the requirements of section 158.25 part 158. The FAA will approve or disapprove the application, in whole or in part, no later than January 28, 2003.

The following is a brief overview of the application.

Proposed charge effective date: June 1, 2003.

Proposed charge expiration date: January 1, 2004.

Level of the proposed PFC: $4.50.

Total estimated PFC revenue: $263,000.

Brief description of proposed project(s): PFC Application and Administration Costs, Master Plan (Airport Utilities), Soundproof 25 Homes in 65 LDN, Design Noiseproofing of 50 Homes, Security Items (required by Part 139), Runway 9/27 Safety Area and Extension Feasibility Study, Install West General Aviation Apron Lighting, Install Airfield Guidance Signs (11), Drainage for Runway 9/27 and Taxiway A, and Noise Contour Update of Part 150 Map.

Class or classes of air carriers which the public agency has requested not be required to collect PFCs: Air Taxi/Commercial Operators filing FAA Form 1800-31 and Commercial Air Carriers filing DOT Form 298-C T1 or E1.

Any person may inspect the application in person at the FAA office listed above under FOR FURTHER INFORMATION CONTACT.

In addition, any person may, upon request, inspect the application, notice and other documents germane to the application in person at the Monroe County Board of County Commissioners.

Issued in Orlando, Florida, on October 22, 2002.
W. Dean Stringer,
Manager, Orlando Airports District Office, Southern Region.

[FR Doc. 02-27731 Filed 10-30-02; 8:45 am]

BILLING CODE 4910-13-M